DEPARTMENT OF HOMELAND SECURITY

[Docket No. DHS-2013-0014]

Homeland Security Science and Technology Advisory Committee Meeting Cancellation

AGENCY: Science and Technology Directorate, DHS.

ACTION: Notice of Cancellation of the Federal Advisory Committee Meeting for Homeland Security Science and Technology Advisory Committee (HSSTAC).

SUMMARY: The meeting of the Homeland Security Science and Technology Advisory Committee scheduled for March 21, 2013 from 11:30 a.m.-4:30 p.m. is cancelled. Notice of this meeting was published in the March 4, 2013 Federal Register at DHS-2013-0014.

FOR FURTHER INFORMATION CONTACT: Mary Hanson, HSSTAC Executive Director, Science and Technology Directorate, Department of Homeland Security, 245 Murray Lane, Bldg. 410, Washington, DC 20528, 202-254-5866(O), 202-254-5823 (F), mary.hanson@hq.dhs.gov.

SUPPLEMENTARY INFORMATION: This committee is established in accordance with and operates under the provisions of the Federal Advisory Committee Act (FACA), Title 5 United States Code, Appendix. It reports to the Under Secretary for Science and Technology. The committee addresses areas of interest and importance to the Under Secretary, such as new developments in systems engineering, cyber-security, knowledge management and how best to leverage related technologies funded by other federal agencies and by the private sector. It also advises the Under Secretary on policies, management processes, and organizational constructs as needed. Notice of cancellation of this meeting is given under the Federal Advisory Committee Act (FACA), Pub. L. 92-463, as amended, 5 U.S.C. App.

Dated: March 13, 2013.
Mary Hanson,
Executive Director, Homeland Security Science and Technology Advisory Committee.

[FR Doc. 2013-06341 Filed 3-19-13; 8:45 am]

BILLING CODE 9110-9F-P